ENVIRONMENTAL PROTECTION AGENCY

40 CFR Part 52

[EPA-R09-OAR-2015-0619; FRL-9936-67-Region 9]

Revisions to the California State Implementation Plan, Antelope Valley Air Quality Management District, Feather River Air Quality Management District and Santa Barbara County Air Pollution Control District

AGENCY: Environmental Protection Agency (EPA).

ACTION: Direct final rule.

SUMMARY: The Environmental Protection Agency (EPA) is taking direct final action to approve revisions to the Antelope Valley Air Quality Management District (AVAQMD), Feather River Air Quality Management District (FRAQMD), and Santa Barbara County Air Pollution Control District (SBCAPCD) portions of the California State Implementation Plan (SIP). These revisions concern emissions of volatile organic compounds (VOCs) from architectural coatings. We are approving local rules that regulate these emission sources under the Clean Air Act (CAA or the Act).

DATES: This rule is effective on February 8, 2016 without further notice, unless the EPA receives adverse comments by January 7, 2016. If we receive such comments, we will publish a timely withdrawal in the Federal Register to notify the public that this direct final rule will not take effect.

ADDRESSES: Submit comments, identified by docket number [EPA-R09-OAR-2015-0619, by one of the following methods:

1. Federal eRulemaking Portal: www.regulations.gov. Follow the on-line instructions.

2. Email: steckel.andrew@epa.gov.

3. Mail or deliver: Andrew Steckel (Air-4), U.S. Environmental Protection Agency Region IX, 75 Hawthorne Street, San Francisco, CA 94105-3901.

Instructions: Once submitted, comments cannot be edited or withdrawn. The EPA may publish any comment received to its public docket. Do not submit electronically any information you consider to be Confidential Business Information (CBI) or other information whose disclosure is restricted by statute. If you need to include CBI as part of your comment, please visit http://www.epa.gov/dockets/comments.html for further instructions. Multimedia submissions (audio, video, etc.) must be accompanied by a written comment. The written comment is considered the official comment and should include discussion of all points you wish to make. For the full EPA public comment policy and general guidance on making effective comments, please visit http://www.epa.gov/dockets/comments.html.

Docket: Generally, documents in the docket for this action are available electronically at www.regulations.gov or in hard copy at EPA Region IX, 75 Hawthorne Street, San Francisco, California 94105-3901. While all documents in the docket are listed at www.regulations.gov, some information may be publicly available only at the hard copy location (e.g., copyrighted material, large maps), and some may not be publicly available in either location (e.g., CBI). To inspect the hard copy materials, please schedule an appointment during normal business hours with the contact listed in the FOR FURTHER INFORMATION CONTACT section.

FOR FURTHER INFORMATION CONTACT: Arnold Lazarus, EPA Region IX, (415) 972 3024, lazarus.arnold@epa.gov.

SUPPLEMENTARY INFORMATION: Throughout this document, “we,” “us,” and “our” refer to the EPA.

Table of Contents

I. The State's Submittal

A. What rules did the State submit?

B. Are there other versions of these rules?

C. What is the purpose of the submitted rules and rule revisions?

II. The EPA's Evaluation and Action

A. How is the EPA evaluating the rules?

B. Do the rules meet the evaluation criteria?

C. EPA Recommendations to Further Improve the Rules

D. Public Comment and Final Action

III. Incorporation by Reference

IV. Statutory and Executive Order Reviews

I. The State's Submittal

A. What rules did the State submit?

Table 1 lists the rules we are approving with the dates that they were adopted by the local air agencies and submitted by the California Air Resources Board (CARB).

Table 1—Submitted Rules
Local agency | Rule No. | Rule title | Adopted/amended | Submitted
AVAQMD | 1113 | Architectural Coatings | 3/18/2003 | 5/13/2014
FRAQMD | 3.15 | Architectural Coatings | 8/4/2014 | 11/6/2014
SBCAPCD | 323.1 | Architectural Coatings | 6/19/2014 | 11/6/2014

On May 13, 2014 the EPA determined that the submittal for AVAQMD Rule 1113 met the completeness criteria in 40 CFR part 51 Appendix V, which must be met before formal EPA review.

On December 18, 2014, the submittal for FRAQMD Rule 3.15 and SBCAPCD Rule 323.1 was deemed by operation of law to meet the completeness criteria in 40 CFR part 51 Appendix V.

B. Are there other versions of these rules?

There is a previous version of AVAQMD 1113 adopted by the district on March 18, 2003. The EPA finalized a simultaneous limited approval and limited disapproval of this version on August 26, 2004 (69 FR 52432).

We approved Sutter County Air Pollution Control District (SCAPCD) Rule 3.15, “Architectural Coatings,” and Yuba County Air Pollution Control District (YCAPCD) Rule 3.15, “Architectural Coatings,” into the California SIP on May 3, 1982. SCAPCD and YCAPCD joined together to form the FRAQMD on September 3, 1991; however, SCAPCD Rule 3.15 and YCAPCD Rule 3.15 have remained in the SIP. The EPA is approving removal of these rules because the SCAPCD and the YCAPCD no longer exist and the requirements are superseded by FRAQMD Rule 3.15. Table 2 lists the two superseded rules.

Table 2—Rules To Be Superseded
Local agency | Rule No. | Rule title | Submitted
SCAPCD | 3.15 | Architectural Coatings | 1/28/1981
YCAPCD | 3.15 | Architectural Coatings | 3/30/1981

There are no previous versions of SBCAPCD Rule 323.1 in the SIP.

C. What is the purpose of the submitted rules and rule revisions?

VOCs help produce ground-level ozone and smog, which harm human health and the environment. Section 110(a) of the CAA requires States to submit regulations that control VOC emissions. Architectural coatings are coatings that are applied to stationary structures and their accessories. They include house paints, stains, industrial maintenance coatings, traffic coatings, and many other products. VOCs are emitted from the coatings during application and curing, and from the associated solvents used for thinning and clean-up.

AVAQMD Rule 1113 controls VOC emissions from architectural coatings by establishing VOC limits on any architectural coating supplied, sold, offered for sale or manufactured for use within the AVAQMD. The major revision to Rule 1113 is elimination of the averaging provision which was the primary basis for the EPA's 2004 limited disapproval of a prior version of this rule.

Rule 3.15 and SBCAPCD Rule 323.1 similarly control VOC emissions by establishing VOC limits on architectural coatings supplied, sold, offered for sale or manufactured for use within the FRAQMD and SBCAPCD.

The EPA's technical support documents (TSDs) have more information about these rules.

II. The EPA's Evaluation and Action

A. How is the EPA evaluating the rules?

SIP rules must be enforceable (see CAA section 110(a)(2)), must not interfere with applicable requirements concerning attainment and reasonable further progress or other CAA requirements (see CAA section 110(l)), and must not modify certain SIP control requirements in nonattainment areas without ensuring equivalent or greater emissions reductions (see CAA section 193).

Generally, SIP rules must require Reasonably Available Control Technology (RACT) for each category of sources covered by a Control Techniques Guidelines (CTG) document as well as each major source of VOCs in ozone nonattainment areas classified as moderate or above (see CAA sections 182(b)(2)). The EPA has designated a portion of the FRAQMD (specifically, southern Sutter County) as a severe nonattainment area for the 1-hour ozone national ambient air quality standards (NAAQS or standards) and the 1997 and 2008 8-hour ozone standards. Similarly, the EPA has designated the AVAQMD as severe nonattainment for the 2008 8-hour ozone NAAQS, and the SBCAPCD as unclassifiable/attainment for the 2008 8-Hour Ozone NAAQS. See 40 CFR 81.305. Because there are no relevant EPA CTG documents and because there are no major architectural coating sources, architectural coatings are considered area sources of VOC and are not subject to RACT requirements. However, architectural coatings are subject to other VOC content limits and control measures described in the TSDs.

Guidance and policy documents that we used to evaluate the enforceability, revision/relaxation and stringency requirements of this rule include the following:

1. “State Implementation Plans; General Preamble for the Implementation of Title I of the Clean Air Act Amendments of 1990,” (57 FR 13498, April 16, 1992 and 57 FR 18070, April 28, 1992).

2. “Issues Relating to VOC Regulation Cutpoints, Deficiencies, and Deviations” (“the Bluebook,” U.S. EPA, May 25, 1988; revised January 11, 1990).

3. “Guidance Document for Correcting Common VOC & Other Rule Deficiencies” (“the Little Bluebook,” EPA Region 9, August 21, 2001).

4. National Volatile Organic Compound Emission Standards for Architectural Coatings, 40 CFR 59.400, Subpart D, Table 1, VOC Content Limits for Architectural Coatings.

5. California Air Resources Board (CARB) “Suggested Control Measure for Architectural Coatings,” Approved 2007, February 1, 2008.

6. AVAQMD Rule 1113,”Architectural Coatings,” EPA Limited Approval and Disapproval on August 26, 2004 (69 FR 52432).

7. South Coast Air Quality Management District Rule 1113, ”Architectural Coatings,” amended June 3, 2011, and approved into the SIP on March 26, 2013 (78 FR 18244).

8. SCAPCD Rule 3.15, Architectural Coatings, submitted January 28, 1981, and approved by the EPA May 3, 1982 (47 FR 18856).

9. YCAPCD Rule 3.15, Architectural Coatings, submitted March 30, 1981, and approved by the EPA November 10, 1982 (47 FR 50865).

10. FRAQMD Rule 3.15, Architectural Coatings, adopted June 19, 2014, and submitted November 6, 2014.

11. SBCAPCD Rule 323.1 Architectural Coatings, adopted June 19, 2014, and submitted November 6, 2014.

12. Final Rule To Implement the 8-Hour Ozone NAAQS—Phase 2, 70 FR 71612 (Nov. 25, 2005).

B. Do the rules meet the evaluation criteria?

We believe these rules are consistent with the relevant policy and guidance regarding enforceability, SIP relaxations and stringency. The TSDs have more information on our evaluation.

C. EPA Recommendations to Further Improve the Rules

The TSDs describe additional rule revisions that we recommend for the next time the local agencies modify the rules, but are not currently the basis for rule disapproval.

D. Public Comment and Final Action

As authorized in section 110(k)(3) of the Act, the EPA is fully approving the submitted rules because we believe they fulfill all relevant requirements. We do not think anyone will object to this approval, so we are finalizing it without proposing it in advance. However, in the Proposed Rules section of this Federal Register, we are simultaneously proposing approval of the same submitted rules. If we receive adverse comments by January 7, 2016, we will publish a timely withdrawal in the Federal Register to notify the public that the direct final approval will not take effect and we will address the comments in a subsequent final action based on the proposal. If we do not receive timely adverse comments, the direct final approval will be effective without further notice on February 8, 2016. This will incorporate these rules into the federally enforceable SIP.

Please note that if the EPA receives adverse comment on an amendment, paragraph, or section of this rule and if that provision may be severed from the remainder of the rule, the EPA may adopt as final those provisions of the rule that are not the subject of an adverse comment.

III. Incorporation by Reference

In this rule, the EPA is finalizing regulatory text that includes incorporation by reference. In accordance with requirements of 1 CFR 51.5, the EPA is finalizing the incorporation by reference of the AVAQMD, FRAQMD, SBCAPCD, SCAPCD and YCAPCD rules described in the amendments to 40 CFR part 52 set forth below. The EPA has made, and will continue to make, these documents available electronically through www.regulations.gov and in hard copy at the appropriate EPA office (see the ADDRESSES section of this preamble for more information).

IV. Statutory and Executive Order Reviews

Under the Clean Air Act, the Administrator is required to approve a SIP submission that complies with the provisions of the Act and applicable Federal regulations. 42 U.S.C. 7410(k); 40 CFR 52.02(a). Thus, in reviewing SIP submissions, the EPA's role is to approve state choices, provided that they meet the criteria of the Clean Air Act. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide the EPA with the discretionary authority to address, as appropriate, disproportionate human health or environmental effects, using practicable and legally permissible methods, under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by February 8, 2016. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the Proposed Rules section of today's Federal Register, rather than file an immediate petition for judicial review of this direct final rule, so that the EPA can withdraw this direct final rule and address the comment in the proposed rulemaking. This action may not be challenged later in proceedings to enforce its requirements (see section 307(b)(2)).

List of Subjects in 40 CFR Part 52

Environmental protection, Air pollution control, Incorporation by reference, Intergovernmental relations, Ozone, Reporting and recordkeeping requirements, Volatile organic compounds.

Dated: October 19, 2015.
Jared Blumenfeld,
Regional Administrator, Region IX.

Part 52, Chapter I, Title 40 of the Code of Federal Regulations is amended as follows:

PART 52—APPROVAL AND PROMULGATION OF IMPLEMENTATION PLANS

1. The authority citation for Part 52 continues to read as follows:

Authority: 42 U.S.C. 7401 et seq.

Subpart F—California

2. Section 52.220 is amended by adding paragraphs (c)(89)(iii)(E), (c)(98)(i)(G), (c)(441)(i)(E)(3), (c)(457)(i)(A)(5), and (c)(457)(i)(G) to read as follows:

§ 52.220 Identification of plan.

* * * * *

(c) * * *

(89) * * *

(iii) * * *

(E) Previously approved on May 3, 1982, in paragraph (c)(89)(iii)(A) of this section and now deleted with replacement in paragraph (c)(457)(i)(A)(5) by Feather River Air Quality Management District Rule 3.15, “Architectural Coatings.”

* * * * *

(98) * * *

(i) * * *

(G) Previously approved on May 3, 1982, in paragraph (c)(98)(i)(A) of this section and now deleted with replacement in paragraph (c)(457)(i)(A)(5) by Feather River Air Quality Management District Rule 3.15, “Architectural Coatings.”

* * * * *

(441) * * *

(i) * * *

(E) * * *

(3) Rule 1113, “Architectural Coatings,” amended on March 18, 2003.

* * * * *

(457) * * *

(i) * * *

(A) * * *

(5) Rule 3.15, “Architectural Coatings,” amended on August 4, 2014.

* * * * *

(G) Santa Barbara County Air Pollution Control District.

(1) Rule 323.1, “Architectural Coatings,” adopted on June 19, 2014.

* * * * *

[FR Doc. 2015-30809 Filed 12-7-15; 8:45 am]

BILLING CODE 6560-50-P